DEPARTMENT OF JUSTICE

[OMB Number 1140-0005]

Agency Information Collection Activities; Proposed eCollection of eComments Requested; Revision of a Currently Approved Collection; Application and Permit for Importation of Firearms, Ammunition, and Defense Articles—ATF Form 6—Part I (5330.3A)

AGENCY: Bureau of Alcohol, Tobacco, Firearms and Explosives, Department of Justice.

ACTION: 30-Day notice.

SUMMARY: The Bureau of Alcohol, Tobacco, Firearms and Explosives (ATF), Department of Justice (DOJ) will submit the following information collection request to the Office of Management and Budget (OMB) for review and approval in accordance with the Paperwork Reduction Act of 1995. The proposed collection OMB 1140-0005 (Application and Permit for Importation of Firearms, Ammunition, and Defense Articles) is being revised due to minor material changes to the form, such as formatting and an additional sub question.

DATES: Comments are encouraged and will be accepted for an additional 30 days until January 23, 2023.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

Evaluate whether the proposed collection of information is necessary for the proper performance of the functions of the agency, including whether the information will have practical utility;

Evaluate the accuracy of the agency's estimate of the burden of the proposed collection of information, including the validity of the methodology and assumptions used;

Evaluate whether and, if so, how the quality, utility, and clarity of the information to be collected can be enhanced; and

Minimize the burden of the collection of information on those who are to respond, including through the use of appropriate automated, electronic, mechanical, or other technological collection techniques or other forms of information technology, e.g., permitting electronic submission of responses.

Overview of This Information Collection

Type of Information Collection: Revision of a currently approved collection.

The Title of the Form/Collection: Application and Permit for Importation of Firearms, Ammunition and Defense Articles.

The agency form number, if any, and the applicable component of the Department sponsoring the collection:

Form number: Form Number ATF Form 6—Part I (5330.3A).

Component Sponsor: Bureau of Alcohol, Tobacco, Firearms and Explosives, U.S. Department of Justice.

Affected public who will be asked or required to respond, as well as a brief abstract:

Primary: Businesses or other for-profit.

Other: Federal Government, State, Local or Tribal Government, and individuals or households.

Abstract: The Application and Permit for Importation of Firearms, Ammunition, and Defense Articles—ATF Form 6—Part I (5330.3A) allows ATF to determine if the article(s) described on the application qualifies for importation and serves as authorization for the importer.

An estimate of the total number of respondents and the amount of time estimated for an average respondent to respond: An estimated 10,000 respondents will utilize the form once annually, and it will take each respondent approximately 39 minutes to complete their responses.

An estimate of the total public burden (in hours) associated with the collection: The estimated annual public burden associated with this collection is 6500 hours, which is equal to 10,000 (# respondents) * 1 (# of response per respondent) * .65 (39 minutes).

If additional information is required contact: Robert Houser, Department Clearance Officer, Policy and Planning Staff, Office of the Chief Information Officer, United States Department of Justice, Justice Management Division, Two Constitution Square, 145 N Street NE, 3.E-206, Washington, DC 20530.

Dated: December 16, 2022.
Robert Houser,
Department Clearance Officer, Policy and Planning Staff, U.S. Department of Justice.

[FR Doc. 2022-27797 Filed 12-21-22; 8:45 am]

BILLING CODE 4410-FY-P